DEPARTMENT OF COMMERCE

Submission For OMB Review; Comment Request

DOC has submitted to the Office of Management and Budget (OMB) for clearance the following proposal for collection of information under the provisions of the Paperwork Reduction Act (44 U.S.C. chapter 35).

Agency: U.S. Census Bureau.

Title: Service Annual Survey.

Form Number(s): SA-484, SA-492, SA-493, SA-511, SA-512, SA-513, SA-514, SA-523, SA-532, SA-541, SA-560, SA-621, SA-622, SA-623, SA-624, SA-711, SA-712, SA-713, SA-811, SA-812, SA-813.

Agency Approval Number: 0607-0422.

Type of Request: Revision of a currently approved collection.

Burden: 39,822 hours.

Number of Respondents: 48,686.

Avg. Hours Per Response: 49 minutes.

Needs and Uses: The Service Annual Survey (SAS) provides, for selected service industries, total revenue estimates for taxable firms and total revenue and expense estimates for tax-exempt firms. Selected service industries include professional, scientific and technical services; administrative and support services; health care and social assistance; telecommunications, publishing, broadcasting and other information service industries; trucking, courier and messenger, and warehousing; selected financial services; and arts, entertainment and recreation. Data are collected on number of locations, total receipts (revenue) and receipts by source, total expenses and expenses by type, and percentage of receipts by class of client. The SAS provides continuing and timely national statistical data for the period between economic censuses.

The data produced in SAS are critical to the accurate measurement of total economic activity. The Bureau of Economic Analysis (BEA), the primary Federal user, uses the information to develop the national income and product accounts, compile benchmark and annual input-output tables, and compute gross domestic product (GDP) by industry. Agencies of the U.S. Department of Transportation (DOT) use the data for policy development and program management and evaluation. The Bureau of Labor Statistics (BLS) uses these data as inputs to its Producer Price Indexes and in developing productivity measurements. The Centers for Medicare and Medicaid Services (CMS) use the data for program planning and development of the National Health Expenditure Accounts. The Federal Communications Commission (FCC) uses these data to assess the impact of regulatory policies. The Census Bureau uses these data to provide new insight into changing structural and cost conditions that will impact the planning and design of future economic census questionnaires. International agencies use the data to compare total domestic output to changing international activity. Private industry also uses these data as a tool for marketing analysis.

Every five years we add items requested by the Bureau of Economic Analysis for use in their input-output tables. This is done in conjunction with the mailout of the Business Expenses Survey. For the 2002 survey year, we are revising forms in the following sectors: Radio and Television Broadcasting (NAICS 5131), Cable Networks and Program Distribution (NAICS 5132), and Telecommunications (NAICS 5133). BEA has requested the following detailed expense items: contract labor, purchased communications, purchased utilities (electricity, other utilities), taxes and license fees, legal and accounting services, computer services, management services, and purchased materials and supplies (expensed computer related supplies, other purchased materials). BEA also requested additional detail on lease and rental, and purchased repair and maintenance services items. They include: (1) Land, buildings, structures, store space, and offices, and (2) Machinery, equipment, and other items, excluding computer software. Since the detailed expense items are part of items currently reported, we don't expect an increase in respondent burden. Additionally, the sales tax question will be removed for the 2002 survey year.

Affected Public: Business or other for-profit, not-for-profit institutions.

Frequency: Annually.

Respondent's Obligation: Mandatory.

Legal Authority: Title 13 U.S.C., Sections 182, 224 & 225.

OMB Desk Officer: Susan Schechter, (202) 395-5103.

Copies of the above information collection proposal can be obtained by calling or writing Diana Hynek, Departmental Paperwork Clearance Officer, (202)482-3129, Department of Commerce, room 6625, 14th and Constitution Avenue, NW, Washington, DC 20230 (or via the Internet at dhynek@doc.gov).

Written comments and recommendations for the proposed information collection should be sent within 30 days of publication of this notice to Susan Schechter, OMB Desk Officer, room 10201, New Executive Office Building, Washington, DC 20503.

Dated: September 20, 2002.
Madeleine Clayton,
Management Analyst, Office of the Chief Information Officer.

[FR Doc. 02-24347 Filed 9-24-02; 8:45 am]

BILLING CODE 3510-07-P